DEPARTMENT OF THE INTERIOR

Bureau of Indian Affairs

[167A2100DD/AAKC001030/A0A501010.999900]

Notice of Intent To Prepare an Environmental Impact Statement for the Tule River Tribe's Proposed Fee-to-Trust and Eagle Mountain Casino Relocation Project, Tulare County, California

AGENCY: Bureau of Indian Affairs, Interior.

ACTION: Notice.

SUMMARY: This notice advises the public that the Bureau of Indian Affairs (BIA), as lead agency, intends to gather information necessary for preparing an environmental impact statement (EIS) in connection with the Tule River Tribe's (Tribe) proposed Eagle Mountain Casino Relocation Project in Tulare County, California. This notice also opens public scoping to identify potential issues, concerns and alternatives to be considered in the EIS.

DATES: To ensure consideration during the development of the EIS, written comments on the scope of the EIS should be sent as soon as possible and no later than January 30, 2017. The date of the public scoping meeting will be announced at least 15 days in advance through a notice to be published in the local newspaper (Porterville Recorder) and online at http://www.tulerivereis.com.

ADDRESSES: You may mail or hand-deliver written comments to Ms. Amy Dutschke, Regional Director, Bureau of Indian Affairs, Pacific Region, 2800 Cottage Way, Sacramento, California 95825. Please include your name, return address, and “NOI Comments, Tule River Tribe Casino Relocation Project” on the first page of your written comments. You may also submit comments through email to Mr. John Rydzik, Chief, Division of Environmental, Cultural Resource Management and Safety, Bureau of Indian Affairs, at john.rydzik@bia.gov. If emailing comments, please use “NOI Comments, Tule River Tribe Casino Relocation Project” as the subject of your email.

The location of the public scoping meeting will be announced at least 15 days in advance through a notice to be published in the local newspaper (Porterville Recorder) and online at http://www.tulerivereis.com.

FOR FURTHER INFORMATION CONTACT: Mr. John Rydzik, Chief, Division of Environmental, Cultural Resource Management and Safety, Bureau of Indian Affairs, Pacific Regional Office, 2800 Cottage Way, Room W-2820, Sacramento, California 95825; telephone: (916) 978-6051; email: john.rydzik@bia.gov. Information is also available online at http://www.tulerivereis.com.

SUPPLEMENTARY INFORMATION: The Tribe submitted an application to the Bureau of Indian Affairs (BIA) requesting the placement of approximately 40 acres of fee land in trust by the United States upon which the Tribe would construct a casino resort. The facility would include an approximately 105,000 square foot casino, an approximately 250-room hotel, approximately 36,000 square feet of food and beverage facilities, administrative space, a multi-purpose events center, a conference center, and associated parking and infrastructure. The new facility would replace the Tribe's existing casino, and the existing casino buildings would be converted to tribal government or service uses. Accordingly, the proposed action for the Department is the acquisition requested by the Tribe. The proposed fee-to-trust property is located within the boundaries of the City of Porterville, in Tulare County, California, adjacent to the Porterville Airport and approximately 15 miles west of the Tule River Tribe Reservation. The proposed trust property includes 17 parcels, bound by West Street on the west, an off-highway vehicle park (OHV) owned by the City of Porterville to the north and east, and a photovoltaic power station (solar farm) to the south. The Assessor's parcel numbers (APNs) for the property are 302-400-001 through 302-400-017. The purpose of the proposed action is to improve the economic status of the tribal government so it can better provide housing, health care, education, cultural programs, and other services to its members.

The proposed action encompasses the various Federal approvals which may be required to implement the Tribe's proposed project, including approval of the Tribe's fee-to-trust application and a secretarial determination pursuant to Section 2719(b)(1)(A) of the Indian Gaming Regulatory Act. The EIS will identify and evaluate issues related to these approvals, and will also evaluate a range of reasonable alternatives. Possible alternatives currently under consideration include: (1) An expanded site alternative that involves acquiring additional adjacent fee-land into trust for the development of ancillary infrastructure and overflow parking; (2) a reduced-intensity casino alternative; (3) an alternate-use (non-casino) alternative; and (4) an alternative involving expansion of the Tribe's existing casino. The range of issues and alternatives may be expanded based on comments received during the scoping process.

Areas of environmental concern identified for analysis in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects. The range of issues and alternatives to be addressed in the EIS may be expanded or reduced based on comments received in response to this notice and at the public scoping meeting. Additional information, including a map of the proposed trust property, is available by contacting the person listed in the FOR FURTHER INFORMATION CONTACT section of this notice.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321-4345 et seq.), and the Department of the Interior National Environmental Policy Act Implementation Policy (43 CFR part 46), and is in the exercise of authority delegated to the Assistant Secretary—Indian Affairs by 209 DM 8.

Dated: December 22, 2016.
Lawrence S. Roberts,
Principal Deputy Assistant Secretary—Indian Affairs.

[FR Doc. 2016-31724 Filed 12-29-16; 8:45 am]

BILLING CODE 4337-15-P